UNIFIED CARRIER REGISTRATION PLAN

Sunshine Act; Meeting

TIME AND DATE: October 21, 2021, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 966 7365 6618, to listen and participate in this meeting. The website to participate via Zoom Meeting and Screenshare is https://kellen.zoom.us/j/96673656618.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption.

Ground Rules

➢ Subcommittee action only to be taken in designated areas on agenda.

IV. Review and Approval of Subcommittee Minutes From the May 20, 2021 Meeting—Subcommittee Chair

For Discussion and Possible Subcommittee Action

Draft minutes from the May 20, 2021 Subcommittee meeting via teleconference will be reviewed. The Subcommittee will consider action to approve.

V. Proposal To Select New External Auditing Firm of the UCR Depository—UCR Executive Director and UCR Depository Manager

For Discussion and Possible Subcommittee Action

The UCR Executive Director and the UCR Depository Manager will present a proposal to the Subcommittee to consider initiating a request-for-proposal (RFP) process to identify and engage a new independent auditing firm to conduct an assurance engagement of the UCR Depository's financial statements for the year ending December 31, 2021. It is a widespread practice to rotate auditing firms every four years to ensure proper integrity of the audit process. The current firm has now provided these audit services for the past four years from 2017 through 2020. The Subcommittee may consider a recommendation to the Board to initiate an RFP process to engage a new auditing firm for the financial statements ending December 31, 2021.

VI. Proposal To Adopt Written Internal Controls Procedures for the UCR Depository—UCR Executive Director and UCR Depository Manager

For Discussion and Possible Subcommittee Action

The UCR Executive Director and the UCR Depository Manager will lead a review of the draft of written internal controls intended for implementation by the Depository. The Subcommittee may consider a recommendation to the Board to adopt the written internal controls procedures.

VII. Review the Impact on UCR From Future Changes to the Federal Motor Carrier Safety Administration's (FMCSA) Unified Registration System (URS)—Subcommittee Chair

The Subcommittee Chair will discuss the potential impact from future changes to the URS and its affect to limit state users' abilities to update data in the Motor Carrier Management Information System (MCMIS).

VIII. Support States To Improve Registration Compliance—Subcommittee Chair and DSL Transportation, Inc. (DSL)

The Subcommittee Chair and DSL will lead a discussion regarding methods to help participating states improve registration compliance (percentages). Suggested methods might include educating various parties such as state registration offices, state motor carrier association offices, state highway patrols, etc. New entrant audits are an additional suggestion. Input from the Subcommittee on other ideas is encouraged.

IX. Improve Low Registration Compliance Among Non-Participating States (NPS)—Subcommittee Chair and DSL

The Subcommittee Chair and DSL will lead a discussion regarding methods to address low registration compliance (percentages) among the NPS. Suggested methods would include those described above.

X. Review 2020 Audits and Focused Anomaly Reviews (FARs) Collection Procedures—Subcommittee Chair

The Subcommittee Chair will review the 2020 audit and FARs collection procedures through the end of calendar year 2021 based on audits conducted through the Administrative Portal.

XI. Review Inspection Audits Assigned in the National Registration System (NRS)—Subcommittee Chair, Subcommittee Vice-Chair, and SeikoSoft

The Subcommittee Chair, Subcommittee Vice-Chair, and SeikoSoft will review inspection audits assigned in the NRS. The intent of the discussion is to understand what causes an inspection audit in the current year to potentially result in the auto-generation in the NRS of an inspection audit for a previous or subsequent registration year.

XII. Introduction/Update on Plate Violations Report—Subcommittee Chair and DSL

The Subcommittee Chair and DSL will update the Subcommittee on the Plates Violations Report prepared by DSL. The purpose for the report is to raise awareness of IRP violations and encourage states to follow-up with violators and get them compliant with UCR when necessary.

XIII. Other Business—Subcommittee Chair

The Subcommittee Chair will call for any other items Subcommittee members would like to discuss.

XIV. Adjournment—Subcommittee Chair

The Subcommittee Chair will adjourn the meeting.

The agenda will be available no later than 5:00 p.m. Eastern time, October 12, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-22502 Filed 10-12-21; 11:15 am]

BILLING CODE 4910-YL-P